DEPARTMENT OF THE INTERIOR

Geological Survey

[GX24EE000101000]

Draft National Spatial Data Infrastructure Strategic Plan

AGENCY: U.S. Geological Survey, Department of the Interior.

ACTION: Notice; request for public comment.

SUMMARY: The Federal Geographic Data Committee (FGDC) is soliciting public comments on the draft strategic plan for the National Spatial Data Infrastructure (NSDI).

DATES: Comments must be received by August 6, 2024.

ADDRESSES: Information about the FGDC is available at www.fgdc.gov. The draft strategic plan, along with instructions for submitting comments, is posted at: www.fgdc.gov/nsdi-plan. You may provide comments by either of the following methods:

• Electronically to nsdicomments@fgdc.gov.

• By mail to Federal Geographic Data Committee, 12201 Sunrise Valley Drive, Mail Stop 590, Reston, VA 20192.

FOR FURTHER INFORMATION CONTACT: Joshua Delmonico, U.S. Geological Survey (703-648-5752).

SUPPLEMENTARY INFORMATION: The FGDC is the interagency committee that serves as the lead entity in the executive branch for the development, implementation, and review of policies, practices, and standards relating to geospatial data. The FGDC operates under the authority of the Geospatial Data Act of 2018 (GDA) and Office of Management and Budget (OMB) Circular A-16. One of the FGDC's responsibilities under the GDA is to “prepare and maintain a strategic plan for the development and implementation of the NSDI in a manner consistent with national security, national defense, and emergency preparedness program policies regarding data accessibility.” The GDA describes the NSDI as “the technology, policies, criteria, standards, and employees necessary to promote geospatial data sharing throughout the Federal Government, State, Tribal, and local governments, and the private sector (including nonprofit organizations and institutions of higher education).”

The draft NSDI strategic plan has been developed with inputs from a variety of sources, including FGDC member agencies, the National Geospatial Advisory Committee, and geospatial partner organizations. The plan describes a broad national vision for the NSDI and includes goals and objectives for the sustainable development of the NSDI. Following the public comment period, a revised draft of the plan will be prepared for final review and adoption by the FGDC Steering Committee. Following adoption of the strategic plan, the FGDC will develop more detailed project plans for the goals and objectives in the strategic plan.

Kenneth M. Shaffer,
Deputy Executive Director, Federal Geographic Data Committee.

[FR Doc. 2024-15508 Filed 7-15-24; 8:45 am]

BILLING CODE 4311-AM-P